DEPARTMENT OF EDUCATION

[Docket No.: ED-2023-SCC-0197]

Agency Information Collection Activities; Submission to the Office of Management and Budget for Review and Approval; Comment Request; Early Childhood Longitudinal Study, Kindergarten Class of 2023-24 (ECLS-K:2024) Kindergarten and First-Grade National Data Collection and Transfer School Recruitment

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before December 22, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Early Childhood Longitudinal Study, Kindergarten Class of 2023-24 (ECLS-K:2024) Kindergarten and First-Grade National Data Collection and Transfer School Recruitment.

OMB Control Number: 1850-0750.

Type of Review: Revision of a currently approved ICR.

Respondents/Affected Public: Individuals or households.

Total Estimated Number of Annual Responses: 157,586.

Total Estimated Number of Annual Burden Hours: 83,612.

Abstract: The Early Childhood Longitudinal Study (ECLS) program, conducted by the National Center for Education Statistics (NCES) within the Institute of Education Sciences (IES) of the U.S. Department of Education (ED), draws together information from multiple sources to provide rich, descriptive data on child development, early learning, and school progress. The ECLS program studies deliver national data on children's status at birth and at various points thereafter; children's transitions to nonparental care, early care and education programs, and school; and children's experiences and growth through the elementary grades. The Early Childhood Longitudinal Study, Kindergarten Class of 2023-24 (ECLS-K:2024) is the fourth cohort in the series of early childhood longitudinal studies. The study will advance research in child development and early learning by providing a detailed and comprehensive source of current information on children's early learning and development, transitions into kindergarten and beyond, and progress through school. The ECLS-K:2024 will provide data about the population of children who will be kindergartners in the 2023-24 school year. The ECLS-K:2024 will focus on children's early school experiences continuing through the fifth grade, and will include collection of data from children, parents, teachers, and school administrators.

The request to conduct the first three national data collection rounds for the ECLS-K:2024 was approved on April 7, 2023 (OMB# 1850-0750 v.26). The ECLS-K:2024 fall kindergarten data collection will be conducted from August until December 2023, followed by the spring (March-July 2024) kindergarten round, and the spring (March-July 2025) first-grade round. Each of these rounds of data collection will involve advance school contacts, for example to conduct student sampling activities, collect teacher and school information, and locate families whose children may have moved schools. Future OMB packages will be submitted for the third-and fifth-grade field test (to be conducted in March-July 2026), as well as for the national spring (March-July 2027) third-grade round and the spring (March-July 2029) fifth-grade round.

This current revision request (accompanied by 30 days of public comment) is to update study respondent materials, web and paper surveys, and website designs that will be used in the kindergarten and first-grade data collection activities. Many of the revisions in this package were made based on analyses of the fall 2022 field test data (OMB# 1850-0750 v.25), which informed changes to the design of the surveys and child assessment. Other changes occurred after further discussion on operational procedures. Revisions to the study instruments (and to some extent, the respondent materials and websites) are largely limited to changes to the spring kindergarten materials; an additional revision request will be submitted to OMB for revisions to the spring first-grade materials as additional discussions on design and operational procedures continue. National data collection work completed to date will also inform these future revisions.

The requested changes do not affect the approved total cost to the federal government for conducting this study, but they do result in a small reduction to respondent burden.

Dated: November 17, 2023.
Stephanie Valentine,
PRA Coordinator, Strategic Collections and Clearance, Governance and Strategy Division, Office of Chief Data Officer, Office of Planning, Evaluation and Policy Development.

[FR Doc. 2023-25799 Filed 11-21-23; 8:45 am]

BILLING CODE 4000-01-P